DEPARTMENT OF THE INTERIOR

National Park Service

Notice of Intent to Repatriate Cultural Items: Kansas State Historical Society, Topeka, KS

AGENCY: National Park Service, Interior.

ACTION: Notice.

Notice is here given in accordance with the Native American Graves Protection and Repatriation Act (NAGPRA), 25 U.S.C. 3005, of the intent to repatriate cultural items in the possession of the Kansas State Historical Society, Topeka, KS that meet the definitions of “sacred objects” and “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The two cultural items are a ceremonial wooden bowl (KSHS catalog number 56.32.12) and a woven bag (KSHS catalog number 56.32.39).

On April 23, 1956, the cultural items were sold to the Kansas State Historical Society by the Logan Museum of Anthropology, Beloit College, Beloit, WI. Both cultural items were from the Heath Collection and identified as Ottawa. The Ottawa people are also called Odawa. Albert Green Heath was known to have collected cultural items from the Odawa at Little Traverse Bay, MI. Descendants of the Ottawa or Odawa are members of the Little Traverse Bay Bands of Odawa Indians, Michigan.

Tribal representatives of the Little Traverse Bay Bands of Odawa Indians, Michigan have identified the two cultural items as being needed by traditional Odawa religious leaders for the practice of a traditional Native American religion by their present-day adherents. Furthermore, tribal representatives also have identified the two cultural items as having ongoing historical, traditional, and cultural importance central to the culture itself, and indicated that the cultural items could not have been alienated by any single individual.

Officials of the Kansas State Historical Society have determined that, pursuant to 25 U.S.C. 3001 (3)(C), the two cultural items described above are specific ceremonial objects needed by traditional Native American religious leaders for the practice of traditional Native American religions by their present-day adherents. Officials of the Kansas State Historical Society also have determined that, pursuant to 25 U.S.C. 3001 (3)(D), the two cultural items described above have ongoing historical, traditional, or cultural importance central to the Native American group or culture itself, rather than property owned by an individual. Lastly, officials of the Kansas State Historical Society have determined that, pursuant to 25 U.S.C. 3001 (2), there is a relationship of shared group identity that can be reasonably traced between the sacred objects/objects of cultural patrimony and the Little Traverse Bay Bands of Odawa Indians, Michigan.

Representatives of any other Indian tribe that believes itself to be culturally affiliated with the sacred objects/objects of cultural patrimony should contact Robert Hoard, NAGPRA Coordinator, Kansas State Historical Society, 6425 SW Sixth Avenue, Topeka, KS 66542, telephone (785) 272-8681 (extension 269), before October 19, 2007. Repatriation of the sacred objects/objects of cultural patrimony to the Little Traverse Bay Bands of Odawa Indians, Michigan may proceed after that date if no additional claimants come forward.

The Kansas State Historical Society is responsible for notifying the Little Traverse Bay Bands of Odawa Indians, Michigan tribe that this notice has been published.

Dated: September 5, 2007.
Sherry Hutt,
Manager, National NAGPRA Program.

[FR Doc. E7-18484 Filed 9-18-07; 8:45 am]

BILLING CODE 4312-50-S